DEPARTMENT OF EDUCATION

[Docket No.: ED-2023-SCC-0162]

Agency Information Collection Activities; Submission to the Office of Management and Budget for Review and Approval; Comment Request; Reporting Additional Direct Assessment Programs

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before December 20, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, (202) 377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Reporting Additional Direct Assessment Programs.

OMB Control Number: 1845-0162.

Type of Review: Extension without change of a currently approved ICR.

Respondents/Affected Public: Private Sector; State, local, and Tribal governments.

Total Estimated Number of Annual Responses: 36.

Total Estimated Number of Annual Burden Hours: 18.

Abstract: The Department of Education is requesting an extension without change of the current information collection 1845-0162, Reporting Additional Direct Assessment Programs. 34 CFR 600.21 requires an institution to only report the addition of a second or subsequent direct assessment program without the review and approval of the Department when it previously been awarded such approval. The regulations also require an institution to report the establishment of a written arrangement between the eligible institution and an ineligible institution or organization in which the ineligible institution or organization would provide more than 25 percent of a program. This information will be provided to the Secretary to ensure that the institutions are properly reporting subsequent direct assessment programs at the same degree level after it has had its first direct assessment program reviewed and shown the ability to create a program that has been approved by the Secretary. The reporting time is 10 days after the first day that the program is offered. The reporting requirement for subsequent programs allows the Department to monitor the growth and development of direct assessment programs.

Dated: November 15, 2023.
Kun Mullan,
PRA Coordinator, Strategic Collections and Clearance, Governance and Strategy Division, Office of Chief Data Officer, Office of Planning, Evaluation and Policy Development.

[FR Doc. 2023-25577 Filed 11-17-23; 8:45 am]

BILLING CODE 4000-01-P